DEPARTMENT OF THE INTERIOR

National Park Service

National Register of Historic Places; Notification of Pending Nominations and Related Actions

Nominations for the following properties being considered for listing or related actions in the National Register were received by the National Park Service before August 26, 2006. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by September 20, 2006.

John W. Roberts,
Acting Chief, National Register/National Historic Landmarks Program.

ARIZONA

Maricopa County

Wichenburg—Boetto House, 225 S. Washington St., Wichenburg, 06000912

ARKANSAS

Arkansas County

Tichnor Rice Dryer and Storage Building, (Mixed Masonry Buildings of Silas Owens, Sr. MPS) 1030 AR 44, Tichnor, 06000911

Calhoun County

Hampton Waterworks, (New Deal Recovery Efforts in Arkansas MPS) Hunt St., W of Lee St., Hampton, 06000909

Chicot County

Eudora City Hall, (New Deal Recovery Efforts in Arkansas MPS) 239 S. Main St., Eudora, 06000910

Clark County

US 67 Rest Area, Old, (New Deal Recovery Efforts in Arkansas MPS) West side of Old US 67, approx. 0.5 mi. S of Middleton, Curtis, 06000907

Ouachita County

Bearden Waterworks, (New Deal Recovery Efforts in Arkansas MPS) Jct. of N. 2nd and N. Cedar, Bearden, 06000908

St. Francis County

Hughes Water Tower, (New Deal Recovery Efforts in Arkansas MPS) Church St., Hughes, 06000905

Stone County

Mountain View Waterworks, (New Deal Recovery Efforts in Arkansas MPS) Jct. of Gaylor St. and King St., Mountain View, 06000906

CALIFORNIA

Los Angeles County

Beverly Hills Women's Club, 1700 Chevy Chase Dr., Beverly Hills, 06000914

Sacramento County

Fair Oaks Bridge, Old, Crosses America R. at Bridge St. to American R Pkwy, N of Upper Sunrise Dr. in Gold R, Fair Oaks, 06000913

Sonoma County

Ellis—Martin House, 1197 E. Washington St., Petaluma, 06000915

COLORADO

Adams County

Adams County Courthouse, 22 S 4th Ave., Brighton, 06000916

FLORIDA

Lake County

Edge House, 1218 W. Broad St., Groveland, 06000917

Martin County

Trapper Nelson Zoo Historic District, 16450 SE Federal Hwy., Hobe Sound, 06000918

MAINE

Aroostook County

Oakfield Grange, #414, 89 Ridge Rd., Oakfield, 06000920

Cumberland County

Eight Maine Regiment Memorial, 13 Eighth Main Ave., Peaks Island, 06000919

Kennebec County

Clark, Edmund and Rachel, Homestead, Address Restricted, China, 06000921

Waldo County

Ulmer, George, House, 3 S. Cobbtown Rd., Lincolnville, 06000922

SOUTH DAKOTA

Brown County

US Post Office and Courthouse—Aberdeen, 102 4th Ave. SE, Aberdeen, 06000931

TEXAS

Carson County

Route 66, TX 207 to I-40, (Route 66 in Texas MPS) Texas Farm Rd. 2161, from I-40 to TX 207, Conway, 06000924

Harris County

Farrar, Roy and Margaret, House, 511 Lovett Blvd., Houston, 06000923

Matagorda County

Hensley—Gusman House, 2120 Sixth St., Bay City, 06000927

Oldham County

Vega Motel, (Route 66 in Texas MPS) 1005 Vega Blvd., Vega, 06000926

Wheeler County

Route 66 Bridge over the Chicago, Rock Island and Gulf Railroad, (Route 66 in Texas MPS)I-40 south frontage road over the former CRI&G RR ROW, Shamrock, 06000925

UTAH

Salt Lake County

Murray Downtown Historic District, (Murray City, Utah MPS) Roughly bounded by 4800 South, Popkar St., Vine St. and Center St., Murray, 06000928

Seventh-day Adventist Meetinghouse and School, 1840 S. 800 East, Salt Lake City, 06000930

Walker Bank Building, 175 S. Main St., Salt Lake City, 06000929

[FR Doc. E6-14612 Filed 9-1-06; 8:45 am]

BILLING CODE 4312-51-P